DEPARTMENT OF COMMERCE

National Oceanic and Atmospheric Administration

Office of Oceanic and Atmospheric Research NOAA Science Advisory Board's Climate Working Group

AGENCY: Office of Oceanic and Atmospheric Research (OAR), National Oceanic and Atmospheric Administration (NOAA), Department of Commerce (DOC).

ACTION: Notice of solicitation for members of the NOAA Science Advisory Board's Climate Working Group.

SUMMARY: The Under Secretary of Commerce for Oceans and Atmosphere requested the NOAA Science Advisory Board (SAB) to establish a standing working group to provide scientific advice and broad direction NOAA's climate program in the context of both national and international activities. The Climate Working Group (CWG) focuses on the broad research and operational components of the climate program as well as on the underlying observations and data management issues. The CWG assists NOAA's climate programs in establishing plans, reviewing progress, and setting priorities on a continuing basis. As the terms of current members end, additional members are needed and the SAB is soliciting nominations for four vacancies.

DATES: Nominations must be received October 27, 2008.

ADDRESSES: Nominations should be submitted electronically to noaa.sab.climate@noaa.gov.

FOR FURTHER INFORMATION CONTACT: Dr. Cynthia Decker, 301-734-1156; cynthia.decker@noaa.gov.

SUPPLEMENTARY INFORMATION: The complete Terms of Reference of this working group can be found on the NOAA Science Advisory Board website http://www.sab.noaa.gov/working_groups/standing/docs/2008/CWG_TOR_12July07.pdf. At this time, the SAB is soliciting nominations for four vacancies in the following areas of expertise relating to climate science: Ocean circulation/dynamics, ocean observations, atmospheric dynamics, atmospheric space-based observations, decision support, paleoclimate, and land surface/hydrology modeling. The intent is to select from the suggested candidates, however, the SAB retains the prerogative to name members to the working group who were not nominated if it deems this necessary to achieve the desired balance. Once selected, the SAB will post the review panel members' names at http://www.sab.noaa.gov.

Nominations

Anyone is eligible to nominate members of the working group. Self-nominations will be accepted. Nominations should provide: (1) The nominee's full name, title, institutional affiliation, and contact information; (2) the nominee's area(s) of expertise; and (3) a description of nominee's qualifications relative to the kinds of advice being solicited. Inclusion of a Curriculum Vitae or resume is desirable.

Dated: August 21, 2008.
Mark E. Brown,
Chief Financial Officer, Office of Oceanic and Atmospheric Research, National Oceanic and Atmospheric Administration, Atmospheric Administration.

[FR Doc. E8-19879 Filed 8-26-08; 8:45 am]

BILLING CODE 3510-KD-P